DEPARTMENT OF AGRICULTURE

Animal and Plant Health Inspection Service

[Docket No. APHIS-2019-0006]

Notice of Request for Revision to and Extension of Approval of an Information Collection; Importation of Fresh Andean Blackberry and Raspberry Fruit From Ecuador Into the Continental United States

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the importation of fresh Andean blackberry and raspberry fruit from Ecuador into the continental United States.

DATES: We will consider all comments that we receive on or before May 6, 2019.

ADDRESSES: You may submit comments by either of the following methods:

• Federal eRulemaking Portal: Go to http://www.regulations.gov/#!docketDetail;D=APHIS-2019-0006.

• Postal Mail/Commercial Delivery: Send your comment to Docket No. APHIS-2019-0006, Regulatory Analysis and Development, PPD, APHIS, Station 3A-03.8, 4700 River Road Unit 118, Riverdale, MD 20737-1238.

Supporting documents and any comments we receive on this docket may be viewed at http://www.regulations.gov/#!docketDetail;D=APHlS-2019-0006 or in our reading room, which is located in room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the importation of fresh Andean blackberry and raspberry fruit from Ecuador into the continental United States, contact Ms. Claudia Ferguson, Senior Regulatory Policy Coordinator, RCC, IRM, PPQ, APHIS, 4700 River Road Unit 133, Riverdale, MD 20737; (301) 851-2352. For more detailed information on the information collection, contact Ms. Kimberly Hardy, APHIS' Information Collection Coordinator, at (301) 851-2483.

SUPPLEMENTARY INFORMATION:

Title: Importation of Fresh Andean Blackberry and Raspberry Fruit From Ecuador Into the Continental United States.

OMB Control Number: 0579-0435.

Type of Request: Revision to and extension of approval of an information collection.

Abstract: The Plant Protection Act (7 U.S.C. 7701 et seq.) authorizes the Secretary of Agriculture to carry out operations or measures to detect, eradicate, suppress, control, prevent, or retard the spread of plant pests new to the United States or not known to be widely distributed throughout the United States.

The regulations in “Subpart L-Fruits and Vegetables” (7 CFR 319.56-1 through 319.56-12, referred to as the regulations) prohibit or restrict the importation of fruits and vegetables into the United States from certain parts of the world to prevent the introduction and dissemination of plant pests that are new to or not widely distributed within the United States.

The Animal and Plant Health Inspection Service allows the importation of fresh Andean blackberries and raspberries into the United States from Ecuador. As a condition of entry, the fruit must be produced in accordance with a systems approach. This systems approach includes information activities such as production and packinghouse registration, an operational workplan, records of fruit fly trap placement and monitoring, recordkeeping, and a quality control program. The fruit must also be imported in commercial consignments and accompanied by a phytosanitary certificate issued by the national plant protection organization (NPPO) of Ecuador stating that the consignment was produced and prepared for export in accordance with the requirements.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 1.3 hours per response.

Respondents: Shippers and producers of fresh Andean blackberries and raspberries and the NPPO of Ecuador.

Estimated annual number of respondents: 28.

Estimated annual number of responses per respondent: 5.75.

Estimated annual number of responses: 161.

Estimated total annual burden on respondents: 209 hours. (Due to averaging, the total annual burden hours may not equal the product of the annual number of responses multiplied by the reporting burden per response.)

All responses to this notice will be summarized and included in the request for OMB approval. All comments will also become a matter of public record.

Done in Washington, DC, this 27th day of February 2019.
Kevin Shea,
Administrator, Animal and Plant Health Inspection Service.

[FR Doc. 2019-03859 Filed 3-4-19; 8:45 am]

BILLING CODE 3410-34-P